DEPARTMENT OF ENERGY

Federal Energy Regulatory Commission

[Docket No. CP05-406-000]

Columbia Gas Transmission Corporation; Notice of Application for Abandonment

September 7, 2005.

Take notice that on August 30, 2005, Columbia Gas Transmission Corporation (Columbia) filed an application pursuant to section 7(b) of the Natural Gas Act (NGA) for authorization to abandon by sale to Columbia Natural Resources, LLC (CNR) certain natural gas facilities known as Columbia's Kermit Compressor Station System consisting of approximately 43.62 miles of pipeline ranging from 2 through 20-inch, two compressor units with a combined horsepower of 2,640, and a single 540 horsepower compressor unit from Columbia's Boldman Compressor Station, all located in West Virginia and Kentucky. Columbia requests approval to abandon the various services being provided through the facilities to be sold. Additionally, Columbia requests that the Commission find the facilities to be gathering and exempt from the Commission's jurisdiction pursuant to section 1(b) of the NGA. Columbia further requests that the Commission grant such other and further relief as may be deemed appropriate. This application is on file with the Commission and open to public inspection.

Any questions regarding this application should be directed to V. J. Hamilton Certificate Lead or Fredric J. George Lead Council for Columbia Gas Transmission Corporation, Post Office Box 1273, Charleston, West Virginia, 25325 at (304) 357-2926 and (304) 357-3206, respectively.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on September 28, 2005.

Magalie R. Salas,
Secretary.

[FR Doc. E5-4983 Filed 9-12-05; 8:45 am]

BILLING CODE 6717-01-P